DEPARTMENT OF ENERGY

Federal Energy Regulatory Commission

[Docket No. RP04-300-000]

Florida Gas Transmission Company; Notice of Proposed Changes in FERC Gas Tariff

May 26, 2004.

Take notice that on May 19, 2004, Florida Gas Transmission Company (FGT) tendered for filing to become part of its FERC Gas Tariff, Third Revised Volume No. 1, the following tariff sheets, effective June 1, 2004:

Sixty-Third Revised Sheet No. 8A

Fifty-Fifth Revised Sheet No. 8A.01

Fifty-Fifth Revised Sheet No. 8A.02

Fifteenth Revised Sheet No. 8A.04

Fifty-Eighth Revised Sheet No. 8B

Fifty-First Revised Sheet No. 8B.01

Eighth Revised Sheet No. 8B.02

FGT states that in Docket No. RP04-185-000 filed on February 27, 2004, FGT filed to establish a Base Fuel Reimbursement Charge Percentage (Base FRCP) of 3.14% to become effective for the six-month Summer Period beginning April 1, 2004. FGT further states that on March 19, 2004, in Docket No. RP04-222-000, FGT filed a flex adjustment of (0.39%) to be effective April 1, 2004, which, when combined with the Base FRCP of 3.14% resulted in an Effective FRCP of 2.75%. The Federal Energy Regulatory Commission (FERC) approved these filings on March 26, 2004, and April 14, 2004, respectively.

FGT states that in the instant filing, FGT is filing a flex adjustment of 0.25% resulting in a cumulative flex adjustment of (0.14%) to be effective June 1, 2004, which, when combined with the Base FRCP of 3.14% results in an Effective FRCP of 3.00%. FGT states that this filing is necessary because FGT is currently experiencing higher fuel usage than will be recovered by the currently Effective FRCP of 2.75%. Increasing the FRCP will reduce FGT's underrecovery of fuel and reduce the Unit Fuel Surcharge in the next Summer Period.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Magalie R. Salas,
Secretary.

[FR Doc. E4-1248 Filed 6-3-04; 8:45 am]

BILLING CODE 6717-01-P